DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat representing the dependent resurvey of a portion of the west boundary and subdivisional lines and the subdivision of section 31, T. 10 N., R. 4 E., Boise Meridian, Idaho, was accepted July 5, 2006.

The plat representing the dependent resurvey of the south boundary and portion of the subdivisional lines, and the subdivision of sections 27, 33, 34, and 35, T. 8 S., R. 41 E., and the dependent resurvey of a portion of the west boundary and portions of the subdivisional lines and the subdivision of sections 2 through 7, T. 9 S., R. 41 E., Boise Meridian, Idaho, were accepted September 27, 2006.

These surveys were executed at the request of the Bureau of Indian Affairs to meet certain administrative and management purposes. The lands surveyed are:

The plat representing the dependent resurvey of a portion of the south and west boundaries and a portion of the subdivisional lines, the subdivision of section 31, and a metes-and-bounds survey in section 31, T. 47 N., R. 4 W., Boise Meridian, Idaho, was accepted July 7, 2006.

The plat representing the dependent resurvey of a portion of the subdivisional lines and the subdivision of section 17, T. 46 N., R. 4 W., Boise Meridian, Idaho, was accepted September 28, 2006.

The plat representing the dependent resurvey of a portion of the west boundary and a portion of the subdivisional lines and the subdivision of section 7, T. 46 N., R. 4 W., Boise Meridian, Idaho, was accepted September 29, 2006.

Summary: The Bureau of Land Management (BLM) will file the plat of survey of the lands described below in the BLM Idaho State Office, Boise, Idaho, 30 days from the date of publication in the Federal Register. This survey was executed at the request of the Bureau of Indian Affairs to meet certain administrative and management purposes:

The plat representing the corrective dependent resurvey of portions of the west boundary and the subdivisional lines, and the dependent resurvey of the west boundary, portions of the south and north boundaries, subdivisional lines, and subdivision of sections 5, 8, 17, 18, and 19, and the further subdivision of sections 5, 8, 17, 19, 30, and 31, and the survey of a portion of the subdivisional lines, the 2002-2006 meanders of the Snake River and certain islands in the Snake River in sections 6 and 7, and the north boundary of the Fort Hall Indian Reservation in section 6, T. 4 S., R. 34 E., Boise Meridian, Idaho, was accepted August 31, 2006.

October 11, 2006.
Stanley G. French,
Chief Cadastral Surveyor for Idaho.

[FR Doc. E6-17189 Filed 10-16-06; 8:45 am]

BILLING CODE 4310-GG-P